FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
13354N | Binex Line Corp., 21818 S. Wilmington Avenue, Suite 404, Long Beach, CA 90810 | May 17, 2002.
14568F | Districargo, Inc., 8015 NW 29th Street, Miami, FL 33122 | May 1, 2002.
16267N | Trident Transport, International, Inc., 215 West Diehl Road, Naperville, IL 60563 | April 12, 2002.
15097N | United Globe Cargo, Inc., 2142 NW 99th Avenue, Miami, FL 33172 | May 12, 2002.

Sandra L. Kusumoto,
Director, Bureau of Consumer Complaints and Licensing.

[FR Doc. 02-16206 Filed 6-26-02; 8:45 am]

BILLING CODE 6730-01-P